DEPARTMENT OF COMMERCE

National Oceanic and Atmospheric Administration

[I.D. 051200C]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Stone Crab Advisory Panel (AP).

DATES: The AP meeting is scheduled to begin at 8:00 a.m. on June 8, 2000 and will conclude by 12:00 noon.

ADDRESSES: The meeting will be held at the Banana Bay Resort & Marina, 4590 Overseas Highway, Marathon, FL 33050; telephone: 305-743-3500.

Council address: Gulf of Mexico Fishery Management Council, 3018 U.S. Highway 301 North, Suite 1000, Tampa, FL 33619.

FOR FURTHER INFORMATION CONTACT: Mr. Wayne Swingle, Executive Director, Gulf of Mexico Fishery Management Council, 3018 U.S. Highway 301 North, Suite 1000, Tampa, FL 33619; telephone: 813-228-2815.

SUPPLEMENTARY INFORMATION: The Stone Crab Advisory Panel (AP) will convene to review an amendment to the Stone Crab Fishery Management Plan (FMP).

The amendment proposes to extend the trap certificate program for the commercial stone crab fishery adopted by the state of Florida into the Federal waters off west Florida. The Florida Fish & Wildlife Conservation Commission (FFWCC), after working with the stone crab industry and Council over the past 4 years, has adopted by rule a trap certificate program that will gradually reduce the number of traps over a 30-year period. The Florida legislature has approved the portion of this program pertaining to licenses and fees. Based on this review, the AP may make recommendations to the Council for consideration at their meeting in Key Largo, July 10-14, 2000.

Although other non-emergency issues not on the agendas may come before the AP for discussion, in accordance with the Magnuson-Stevens Fishery Conservation and Management Act, those issues may not be the subject of formal action during these meetings. Actions of the AP will be restricted to those issues specifically identified in the agendas and any issues arising after publication of this notice that require emergency action under Section 305(c) of the Magnuson-Stevens Act, provided the public has been notified of the Council's intent to take action to address the emergency. Copies of the agenda can be obtained by calling 813-228-2815.

Special Accommodations

This meeting is physically accessible to people with disabilities. Requests for sign language interpretation or other auxiliary aids should be directed to Anne Alford at the Council (see ADDRESSES) by May 25, 2000.

Dated: May 17, 2000.
Richard W. Surdi,
Acting Director, Office of Sustainable Fisheries, National Marine Fisheries Service.

[FR Doc. 00-12968 Filed 5-22-00; 8:45 am]

BILLING CODE 3510-22-F